DEPARTMENT OF TRANSPORTATION

Surface Transportation Board

[STB Finance Docket No. 34125]

South Dakota Railroad Authority—Acquisition Exemption—The Burlington Northern and Santa Fe Railway Company

South Dakota Railroad Authority (SDRA), noncarrier, has filed a notice of exemption under 49 CFR 1150.31 to acquire approximately 49.48 miles of rail line located in Brown and Marshall Counties, SD, owned by The Burlington Northern and Santa Fe Railway Company (BNSF). The line to be acquired is located between milepost 115.08 near Aberdeen, SD, and milepost 65.60 near Kidder, SD, at the South Dakota/North Dakota border. SDRA will also acquire limited operating rights to conduct rail freight service only, for the sole purpose of interchanging freight cars and equipment, over BNSF's rail line at or near Aberdeen, SD, between milepost 115.08 and milepost 118.6 of BNSF's Geneseo subdivision, and between milepost 706.1 and milepost 707.1 of BNSF's main line, for the sole purpose of SDRA or its designee interchanging rail cars and equipment at BNSF's Aberdeen Yard.¹ SDRA certifies that its projected annual revenues will not exceed those that would qualify it as a Class III carrier.

¹ SDRA states that an operator on the track being acquired has not yet been determined.

SDRA reports that an agreement for the transaction was reached and the transaction was consummated on June 15, 2001. The effective date of the exemption was December 27, 2001 (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34125 must be filed with the Surface Transportation Board, Office of the Secretary, Case Control Unit, 1925 K Street, NW., Washington, DC 20423-0001. In addition, a copy of each pleading must be served on Bruce E. Lindholm, Program Manager, Office of Air, Rail and Transit, 700 East Broadway Avenue, Pierre, SD 57501.

Board decisions and notices are available on our web site at “WWW.STB.DOT.GOV.”

Decided: January 11, 2002.
By the Board, David M. Konschnik, Director, Office of Proceedings.
Vernon A. Williams,
Secretary.

[FR Doc. 02-1387 Filed 1-17-02; 8:45 am]

BILLING CODE 4915-00-P